DEPARTMENT OF HOMELAND SECURITY

Coast Guard

[Docket No. USCG-2010-1066]

Recreational Boating Safety Projects, Programs, and Activities Funded Under Provisions of the Fixing America's Surface Transportation Act; Fiscal Year 2021

ACTION: Notice.

SUMMARY: The Coast Guard is publishing this notice to satisfy a requirement of the Fixing America's Surface Transportation Act that requires a detailed accounting of the projects, programs, and activities funded under the national recreational boating safety program provision of the Act be published annually in the Federal Register. This notice specifies the funding amounts the Coast Guard has committed, obligated, or expended during fiscal year 2021, as of September 30, 2021.

FOR FURTHER INFORMATION CONTACT: For questions on this notice please contact Mr. Jeff Decker, U.S. Coast Guard, Regulations Development Manager, (202) 372-1507 or mail to: RBSInfo@uscg.mil.

SUPPLEMENTARY INFORMATION:

Background and Purpose

Since 1998, Congress has passed a series of laws providing funding for projects, programs, and activities funded under the national recreational boating safety program, which is administered by the U.S. Coast Guard. For a detailed description of the legislative history, please see the Recreational Boating Safety Projects, Programs, and Activities Funded Under Provisions of the Fixing America's Surface Transportation Act; Fiscal Year 2020 Notice published in the Federal Register on November 23, 2020 (85 FR 74741).

These funds are available to the Secretary from the Sport Fish Restoration and Boating Trust Fund (Trust Fund) established under 26 U.S.C. 9504(a) for payment of Coast Guard expenses for personnel and activities directly related to coordinating and carrying out the national recreational boating safety program. Amounts made available under this subsection remain available during the two succeeding fiscal years. Any amount that is unexpended or unobligated at the end of the three-year period during which it is available shall be withdrawn by the Secretary and allocated to the States in addition to any other amounts available for allocation in the fiscal year in which they are withdrawn or the following fiscal year.

Use of these funds requires compliance with standard Federal contracting rules with associated lead and processing times resulting in a lag time between available funds and spending. The total amount of funding transferred to the Coast Guard from the Trust Fund, and committed, obligated, and/or expended during fiscal year 2021 for each project is shown below.

Specific Accounting of Funds

The total amount of funding transferred to the Coast Guard from the Sport Fish Restoration and Boating Trust Fund and committed, obligated, and/or expended during fiscal year 2021 for each project is shown in the chart below.

Project | Description | Cost
46 USC 43 Compliance: Inspection Program/Boat Testing Program | Provided for continuance of the national recreational boat compliance inspection program, which began in January 2001 | $3,888,425
46 USC 43 Compliance: Staff Salaries | Provided for personnel to oversee manufacturer compliance with 46 USC 43 requirements | 543,742
46 USC 43 Compliance: Staff Travel | Provided for travel by employees of the Boating Safety Division to oversee manufacturer compliance with 46 USC 43 requirements | 26,274
Administrative Overhead | Supplies and Materials to support the RBS Program | 298,965
Boating Accident Report Database (BARD) Web System | Provided for maintaining the BARD Web System, which enables reporting authorities in the 50 States, five U.S. Territories, and the District of Columbia to submit their accident reports electronically over a secure Internet connection | 363,970
National Boating Safety Advisory Council | Provided for travel performed by NBSAC members, meeting room costs and administrative costs to support the NBSAC | 203
Contract Personnel Support | Provided contract personnel to conduct boating safety-related research and analysis | 730,822
Grant Management Training | Provided to facilitate staff training on new grant management requirements | 159,421
Recreational Boating Safety Program Travel | Provided for travel by employees of the Boating Safety Division to gather background and planning information for new recreational boating safety initiatives | 46,092
Reimbursable Salaries | Provided for 18 personnel directly related to coordinating and carrying out the national recreational boating safety program | 2,943,134

Of the $8.423 million made available to the Coast Guard in fiscal year 2021, $100,000 has been committed, obligated, or expended and an additional $8,901,048 of prior fiscal year funds have been committed, obligated, or expended, as of September 30, 2021. The remainder of the FY20 and FY21 funds made available to the Coast Guard (approximately $9.012 million) may be retained for the allowable period for the National Recreational Boating Survey, the expected reengineering of the Boating Accident and Reporting Database, and other projects, or it may be transferred into the pool of money available for allocation through the state grant program.

Authority: This notice is issued pursuant to 5 U.S.C. 552 and 46 U.S.C. 13107(c)(4).

Dated: November 9, 2021.
Wayne R. Arguin, Jr.,
Captain, U.S. Coast Guard, Director of Inspections and Compliance.

[FR Doc. 2021-24934 Filed 11-15-21; 8:45 am]

BILLING CODE 9110-04-P